DEPARTMENT OF DEFENSE

Office of the Secretary

[Docket ID: DOD-2017-HA-0036]

Proposed Collection; Comment Request

AGENCY: Office of the Assistant Secretary of Defense for Health Affairs (OASD HA), DoD.

ACTION: 60-Day information collection notice.

SUMMARY: In compliance with the Paperwork Reduction Act of 1995, the OASD HA is proposing an extension of an existing information collection. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 26, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Decision Support Division, Defense Health Agency, ATTN: Dr. Kimberley Aiyelawo, 7700 Arlington Blvd., Suite 5101, Falls Church, VA 22042-5101, or call 703-681-3636.

SUPPLEMENTARY INFORMATION: Title; Associated Form; and OMB Number: TRICARE Award Fee Provider Survey; OMB Control Number 0720-0048.

Needs and Uses: The information collection requirement is necessary to obtain and record TRICARE network civilian provider-user satisfaction with the administrative processes/services of managed care support contractors (MCSC) in three TRICARE regions within the United States (North, West, and South) and three regions internationally (Europe, Pacific and Latin America). The survey will obtain TRICARE network civilian provider opinions regarding claims processing, customer service, and administrative support by the TRICARE regional contractors. The reports of findings from these surveys, coupled with performance criteria from other sources, will be used by the TRICARE Regional Administrative Contracting Officers to determine incentive award fee determination.

Affected Public: Businesses or other for profit; not for-profit institutions.

Annual Burden Hours: 102.

Number of Respondents: 1,224.

Responses per Respondent: 1.

Annual Responses: 1,224.

Average Burden per Response: 5 minutes per respondent.

Frequency: Monthly.

Respondents are TRICARE network providers which are defined as a person, business, or institution that provides health care.

DHA has delegated oversight of the civilian provider network to the TRICARE Regional Offices. To improve DHA's oversight of the civilian provider network, GAO has recommended OASD HA explore options for improving the civilian provider surveys so that the results of the surveys could be useful to the DHA and to the contractors in identifying civilian provider concerns and developing actions that might mitigate concerns and help ensure the adequacy of the civilian provider network.

The goal of this survey effort is to provide regional Administrative Contracting Officers with information on provider end-user satisfaction with the administrative processes/services of MCSC. Specifically, confidential telephone surveys of civilian network providers will be conducted that focus on three basic business functions provided of claims processing, customer service, and administrative services by the MCSC.

Dated: July 25, 2017.
Aaron Siegel,
Alternate OSD Federal Register Liaison Officer, Department of Defense.

[FR Doc. 2017-15980 Filed 7-27-17; 8:45 am]

BILLING CODE 5001-06-P